DEPARTMENT OF THE TREASURY

United States Mint

Establish Price for United States Mint Numismatic Product

AGENCY: United States Mint, Department of the Treasury.

ACTION: Notice.

SUMMARY: The United States Mint is announcing pricing for the following new United States Mint numismatic product in accordance with the table below:

SKU | Product | Price
22RC | 2022 Limited Edition Silver Proof Set™ | $201.00

FOR FURTHER INFORMATION CONTACT: Anne Janeski, Marketing Specialist, Sales and Marketing 202-306-9666; United States Mint; 801 9th Street NW; Washington, DC 20220.

(Authority: 31 U.S.C. 5111, 5112, 5132, & 9701)

Eric Anderson,
Executive Secretary, United States Mint.

[FR Doc. 2022-05181 Filed 3-10-22; 8:45 am]

BILLING CODE P